NATIONAL AERONAUTICS AND SPACE ADMINISTRATION

[Notice 04-020]

NASA Earth System Science and Applications Advisory Committee, Earth Science Information Systems and Services Subcommittee; Meeting

AGENCY: National Aeronautics and Space Administration (NASA).

ACTION: Notice of meeting.

SUMMARY: The National Aeronautics and Space Administration announces a meeting of the NASA Earth System Science and Applications Advisory Committee (ESSAAC), Earth Science Information Systems and Services Subcommittee (ESISSS).

DATES: Tuesday, February 17, 2004, 8:30 a.m. to 5 p.m. and Wednesday, February 18, 2004, 8:30 a.m. to 5 p.m.

ADDRESSES: Scripps Institution of Oceanography (SIO), 4500 Hubbs Hall, La Jolla, California 92093.

FOR FURTHER INFORMATION CONTACT: Ms. Martha Maiden, Code YF, National Aeronautics and Space Administration, Washington, DC 20546, 202/358-1078.

SUPPLEMENTARY INFORMATION: The meeting will be open to the public up to the seating capacity of the room. The agenda for the meeting is as follows:

—Welcome

—Charge to Subcommittee

—Goals and Agenda

—State of Earth Science Enterprise (ESE) Data and Information Systems and Services

—Major Issues Identified

—Earth Observation System Data and Information System Technology Snapshot

—Additional and Emerging Systems Technology Snapshot

—Distributed Active Archive Centers' Technology Snapshot

—User Characterization and Metrics

—Technology Infusion

—Data and Information Management Plan

—Chair's Remarks/Review of Agenda

—ESE Overview

—Technology Subcommittee Report

—What Makes a Modern Grid?

—Overview of NASA's Information Infrastructure

—ESE Data & Information Management Plan

—ESE FY03 Performance Discussion

—Progress on Other ESE Plans

—Committee Deliberations

It is imperative that the meeting be held on these dates to accommodate the scheduling priorities of key participants. Visitors will be requested to sign a visitor's register.

Michael F. O'Brien,
Assistant Administrator for Office of External Relations, National Aeronautics and Space Administration.

[FR Doc. 04-1855 Filed 1-28-04; 8:45 am]

BILLING CODE 7510-01-P